DEPARTMENT OF THE INTERIOR

Bureau of Reclamation

Second Public Meeting for Reclamation's Managing for Excellence Project

AGENCY: Bureau of Reclamation, Interior.

ACTION: Notice of announcement of a public meeting.

SUMMARY: The Bureau of Reclamation is holding a meeting to inform the public about the Managing for Excellence project. This meeting is the second of three meetings that will be held in 2006 to inform the public about the action items, progress, and results of the Managing for Excellence project and to seek broad feedback. A subsequent meeting will likely be held November 2006 in Sacramento, California.

DATES: September 19, 2006, 8 a.m. to 5 p.m., and September 20, 2006, 8 a.m. to 12 p.m.

ADDRESSES: Salt Lake City Marriott University Park, 480 Wakara Way, Salt Lake City, UT 84104, Ballroom 2 and 3, 1st Floor.

FOR FURTHER INFORMATION CONTACT: Staci Link (303) 445-2808.

SUPPLEMENTARY INFORMATION: The Managing for Excellence Project will identify and address the specific 21st Century challenges Reclamation must meet to fulfill its mission to manage, develop, and protect water and related resources in an environmentally and economically sound manner in the interest of the American public. This project will examine Reclamation's core capabilities and the agency's ability to respond to both expected and unforeseeable future needs in an innovative and timely manner. This project will result in essential changes in a number of key areas, which are outlined in, Managing for Excellence—An Action Plan for the 21st Century Bureau of Reclamation. For more information regarding the Project, Action Plan, and specific actions being taken, please visit the Managing for Excellence Web page at http://www.usbr.gov/excellence.

Registration

Although you may register the first day of the conference starting at 7:30 a.m., we highly encourage you to register online at http://www.usbr.gov/excellence, or by phone at 303-445-2808.

Dated: August 3, 2006.
William E. Rinne,
Acting Commissioner, Washington Office.

[FR Doc. 06-6931 Filed 8-14-06; 8:45 am]

BILLING CODE 4310-MN-M